DEPARTMENT OF HOMELAND SECURITY

Coast Guard

33 CFR Part 100

[Docket Number USCG-2013-0789]

RIN 1625-AA08

Special Local Regulation; Suncoast Offshore Grand Prix; Gulf of Mexico, Sarasota, FL

AGENCY: Coast Guard, DHS.

ACTION: Notice of proposed rulemaking.

SUMMARY: The Coast Guard proposes to amend the permanent special local regulations for the Suncoast Offshore Challenge and the Suncoast Offshore Grand Prix in the Gulf of Mexico near Sarasota, Florida. These changes would adjust the timing and affected areas of two existing regulated areas. The changes are necessary to provide for the safety of life on navigable waters during the event.

DATES: Comments and related material must be received by the Coast Guard on or before March 3, 2014. Requests for public meetings must be received by the Coast Guard on or before March 3, 2014.

ADDRESSES: You may submit comments identified by docket number using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is (202) 366-9329.

See the “Public Participation and Request for Comments” portion of the SUPPLEMENTARY INFORMATION section below for further instructions on submitting comments. To avoid duplication, please use only one of these three methods.

FOR FURTHER INFORMATION CONTACT: If you have questions on this rule, call or email Lieutenant Junior Grade Brett Sillman, Sector Saint Petersburg Waterways Management Branch, U.S. Coast Guard; telephone (813) 228-2191, email brett.s.sillman@uscg.mil. If you have questions on viewing or submitting material to the docket, call Barbara Hairston, Program Manager, Docket Operations, telephone (202) 366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number USCG-2013-0789 in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number USCG-2013-0040 in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not plan to hold a public meeting. But you may submit a request for one, using one of the methods specified under ADDRESSES. Please explain why you believe a public meeting would be beneficial. If we determine that one would aid this rulemaking, we will hold one at a time and place announced by a later notice in the Federal Register.

B. Regulatory History and Information

The Annual Suncoast Offshore Challenge and Annual Suncoast Offshore Grand Prix in the Gulf of Mexico near Sarasota, Florida are governed by permanent regulations at 33 CFR 100.719 and 33 CFR 100.720, respectively.

C. Basis and Purpose

The legal basis for the rule is the Coast Guard's authority to establish special local regulations: 33 U.S.C. 1233, 33 CFR 1.05-1.

The purpose of the regulation is to consolidate the Annual Suncoast Offshore Challenge at 33 CFR 100.719 and Annual Suncoast Offshore Grand Prix 33 CFR 100.720 into a single regulation to provide safety of life on the navigable waters in the Captain of the Port Saint Petersburg Zone. The marine events are normally held on the first Saturday and Sunday of July between 10 a.m. and 4 p.m. Event coordinators have decided to combine the two events to take place annually on the first Sunday of July between 10 a.m. and 4 p.m. Event coordinators are also reducing the length of the racecourse so that Big Sarasota Pass channel may remain open during the event. In recent years, areas north of New Pass have been subjected to shoaling. To ensure the safety of boaters, the Coast Guard also proposes to close New Pass during the race because the north end of the course is close to the channel.

D. Discussion of Proposed Rule

This proposed rule is necessary to accommodate the rescheduling of the Annual Suncoast Offshore Challenge to the same date of the Annual Suncoast Offshore Grand Prix race, to modify the regulated area to account for changes in the length of the racecourse, and to modify the passes for inbound and outbound traffic into Sarasota Bay. The proposed rule would remove 33 CFR 100.719, the existing permanent regulation for the Annual Suncoast Offshore Challenge scheduled for the first Saturday in July. That event would be consolidated with 33 CFR 100.720, the Annual Suncoast Offshore Grand Prix into a one-day race event to be held on the already established Grand Prix race day, annually on the first Sunday of July. Under the existing special local regulations, New Pass is open to maritime traffic and Big Sarasota Pass is closed to traffic. Due to recent shoaling north of New Pass, the proposed rule would close New Pass and open Big Sarasota Pass to inbound and outbound traffic. Additionally, the coordinates of the regulated area would be modified to reflect a reduced length in the racecourse.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

This regulation is not a significant regulatory action because this change constitutes merging and modification of existing regulations. This rule may have some impact on the public, but these potential impacts will be minimized for the following reason: Big Sarasota Pass is within three miles of New Pass and would allow vessels to continue to enter and exit Sarasota Bay.

2. Impact on Small Entities

Under the Regulatory Flexibility Act (5 U.S.C. 601-612), we have considered the impact of this proposed rule on small entities. The Coast Guard certifies under 5 U.S.C. 605(b) that this proposed rule will not have a significant economic impact on a substantial number of small entities.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment. This rule is categorically excluded from further review under paragraph 34(g) of Figure 2-1 of the Commandant Instruction. A preliminary environmental analysis checklist supporting this determination is available in the docket where indicated under ADDRESSES. We seek any comments or information that may lead to the discovery of a significant environmental impact from this proposed rule.

List of Subjects in 33 CFR Part 100

Marine safety, Navigation (water), Reporting and recordkeeping requirements, Waterways.

For the reasons discussed in the preamble, the Coast Guard proposes to amend 33 CFR part 100 as follows:

PART 100—SAFETY OF LIFE ON NAVIGABLE WATERS

1. The authority citation for part 100 continues to read as follows:

Authority: 33 U.S.C. 1233; Department of Homeland Security Delegation No. 0170.1

§ 100.719 [Removed]

2. Remove § 100.719.

3. Revise § 100.720 to read as follows:

§ 100.720 Annual Suncoast Offshore Grand Prix, Gulf of Mexico, Sarasota, FL.

(a) Regulated area. The regulated area is established by a line drawn from the start line position 27°18.40′ N, 82°35.36′ W, thence to turn 1 position 27°16.74′ N, 82°34.92′ W, thence to turn 2 position 27°18.20′ N, 82°34.51′ W, thence to turn 3 position 27°18.67′ N, 82°35.09′ W, thence to turn 4 position 27°18.66′ N, 82°35.45′ W, thence to the finish line position 27°18.64′ N, 82°35.00′ W. All coordinates referenced use datum: NAD 1983.

(b) Special local regulations. (1) Spectator craft will be permitted to anchor shoreward of the shoreside boundaries, in the spectator area 500 yards from the regulated area between position 27°18.02′ N, 82°34.42′ W and position 27°16.85′ N, 82°34.67′ W.

(2) Spectator craft will be permitted to anchor seaward of the seaside boundaries, in the spectator area 500 yards from the regulated area between position 27°18.54′ N, 82°35.56′ W and position 27°16.64′ N, 82°35.07′ W.

(3) All vessel traffic not involved with the Suncoast Offshore Grand Prix shall enter and exit Sarasota Bay via Big Sarasota Pass and stay well clear of the racecourse.

(4) New Pass will be closed to all inbound and outbound vessel traffic at the COLREGS Demarcation Line. Vessels are allowed to utilize New Pass to access all areas inland of the Demarcation Line via Sarasota Bay. It may be opened at the discretion of the Patrol Commander.

(5) Entry into the regulated area shall be in accordance with this regulation. Spectator craft will stay clear of the race area at all times.

(c) Effective date. This section is effective from 10 a.m. to 4 p.m. EDT, annually during the first Sunday of July.

Dated: January 21, 2014.
G.D. Case,
Captain, U.S. Coast Guard, Captain of the Port St. Petersburg.

[FR Doc. 2014-02664 Filed 2-6-14; 8:45 am]

BILLING CODE 9110-04-P